DEPARTMENT OF THE INTERIOR

Bureau of Land Management

[WY-957-02-1420-BJ]

Notice of Filing of Plats of Survey, Wyoming

AGENCY: Bureau of Land Management, Interior.

ACTION: Notice of filing of plats of survey, Wyoming.

SUMMARY: The Bureau of Land Management (BLM) has filed the plats of survey of the lands described below in the BLM Wyoming State Office, Cheyenne, Wyoming, on December 31, 2002.

FOR FURTHER INFORMATION CONTACT: Bureau of Land Management, 5353 Yellowstone Road, P.O. Box 1828, Cheyenne, Wyoming 82003.

SUPPLEMENTARY INFORMATION: These surveys were executed at the request of the Bureau of Land Management, and are necessary for the management of resources. The lands surveyed are:

The plat representing the dependent resurvey of a portion of the south and east boundaries, and portions of the subdivisional lines, Township 56 North, Range 73 West, Sixth Principal Meridian, Wyoming, was accepted December 31, 2002.

The plat representing the dependent resurvey of portions of the west and north boundaries, and a portion of the subdivisional lines, and the subdivision of certain sections, Township 29 North, Range 85 West, Sixth Principal Meridian, Wyoming, was accepted December 31, 2002.

The plat representing the corrective dependent resurvey of the metes and bounds survey of Tract 39, correcting the numbering sequence from 84 to 89, Township 50 North, Range 99 West, Sixth Principal Meridian, Wyoming, was accepted December 31, 2002.

Copies of the preceding described plats are available to the public.

Dated: January 22, 2003.
John P. Lee,
Chief Cadastral Surveyor, Division of Support Services.

[FR Doc. 03-1950 Filed 1-28-03; 8:45 am]

BILLING CODE 4310-22-P